DEPARTMENT OF COMMERCE

National Oceanic and Atmospheric Administration

50 CFR Part 622

[Docket No. 201112-0303]

RIN 0648-BK19

Fisheries of the Caribbean, Gulf of Mexico, and South Atlantic; Snapper-Grouper Fishery of the South Atlantic Region; Regulatory Amendment 27; Correction

AGENCY: National Marine Fisheries Service (NMFS), National Oceanic and Atmospheric Administration (NOAA), Commerce.

ACTION: Final rule; correcting amendment.

SUMMARY: NMFS corrects the final rule that implemented management measures described in Regulatory Amendment 27 (Regulatory Amendment 27) to the Fishery Management Plan for the Snapper-Grouper Fishery of the South Atlantic Region (Snapper-Grouper FMP), which published in the Federal Register on January 27, 2020. That final rule modified management measures for commercially-caught red porgy in the South Atlantic exclusive economic zone (EEZ). In that final rule, NMFS inadvertently neglected to remove a regulation prohibiting the sale and purchase of red porgy during the months of January through April. The purpose of this correcting amendment is to fix that error.

DATES: This correction is effective November 19, 2020.

FOR FURTHER INFORMATION CONTACT: Mary Vara, Southeast Regional Office, NMFS, telephone: 727-824-5305, email: mary.vara@noaa.gov.

SUPPLEMENTARY INFORMATION: On January 27, 2020, NMFS published a final rule in the Federal Register (85 FR 4588) to implement revisions to commercial management measures contained in Regulatory Amendment 27 that included regulatory revisions for South Atlantic red porgy, among other measures for snapper-grouper species. That final rule became effective on February 26, 2020.

Correction

In the regulatory text of the final rule for Regulatory Amendment 27, NMFS inadvertently neglected to remove a prohibition on the sale and purchase of red porgy during the months of January through April in 50 CFR 622.192(f) that NMFS said it was removing.

The discussions in Regulatory Amendment 27, as well as the associated proposed and final rules, were clear that the existing measure that prohibits the sale and purchase of red porgy from January through April was being removed. Thus, through this correcting amendment, NMFS corrects 50 CFR 622.192 by removing paragraph (f).

Classification

Pursuant to section 304(b)(3) of the Magnuson-Stevens Act, the NMFS Assistant Administrator (AA) has determined that this final rule is consistent with Regulatory Amendment 27, the Snapper-Grouper FMP, other provisions of the Magnuson-Stevens Act, and other applicable law.

This final rule has been determined to be not significant under Executive Order 12866. This final rule is not an Executive Order 13771 regulatory action because this final rule is not significant under Executive Order 12866.

Pursuant to 5 U.S.C. 553(b)(B), the AA finds good cause to waive prior notice and opportunity for additional public comment because it would be unnecessary and contrary to the public interest. This correcting amendment removes an incorrect restriction applicable to the sale and purchase of red porgy during the months of January through April. Providing prior notice and opportunity for public comment is unnecessary and contrary to the public interest because the final rule implementing Regulatory Amendment 27 that explained it would be removing this restriction was already subject to notice and public comment, and further opportunity for public comment would delay the removal of the sale and purchase restriction for red porgy during January through April, which remains in the regulations in error. Further, this correction is a non-substantive change and retaining the incorrect restriction will cause confusion among the affected fishermen and law enforcement.

For the same reasons, the AA also finds good cause, pursuant to 5 U.S.C. 553(d)(3), to waive the 30-day delay in effective date for this correcting amendment, because this non-substantive correction will prevent confusion about the sale and purchase of red porgy each year during January through April.

Because prior notice and opportunity for public comment are not required for this rule by 5 U.S.C. 553, or any other law, this rule is exempt from the procedures of the Regulatory Flexibility Act. Accordingly, no Regulatory Flexibility Analysis is required and none has been prepared.

This final rule contains no information collection requirements under the Paperwork Reduction Act of 1995.

List of Subjects in 50 CFR Part 622

Commercial, Fisheries, Fishing, Red porgy, South Atlantic.

Dated: November 12, 2020.
Samuel D. Rauch III,
Deputy Assistant Administrator for Regulatory Programs, National Marine Fisheries Service.

Accordingly, 50 CFR part 622 is corrected by making the following correcting amendment:

PART 622—FISHERIES OF THE CARIBBEAN, GULF OF MEXICO, AND SOUTH ATLANTIC

1. The authority citation for part 622 continues to read as follows:

Authority: 16 U.S.C. 1801 et seq.

§ 622.192 [Amended]

2. In § 622.192, remove and reserve paragraph (f).

[FR Doc. 2020-25498 Filed 11-18-20; 8:45 am]

BILLING CODE 3510-22-P